DEPARTMENT OF THE INTERIOR

Bureau of Land Management

[BLM_CA_FRN_MO4500161911]

Notice of Public Meetings: Northern California District Resource Advisory Council

AGENCY: Bureau of Land Management, Interior.

ACTION: Notice of public meetings.

SUMMARY: In accordance with the Federal Land Policy and Management Act of 1976 and the Federal Advisory Committee Act of 1972, the U.S. Department of the Interior, Bureau of Land Management (BLM) Northern California District Resource Advisory Council (RAC) will meet as follows.

DATES: Wednesday and Thursday, January 31- February 1, 2024; Wednesday and Thursday, June 5-6, 2024; and Wednesday and Thursday, September 25-26, 2024. Field tours will be held on January 31, June 5, and September 25, from 10 a.m. to 4 p.m. Pacific Time (PT) each day. Business meetings will be held on February 1, June 6, and September 26 from 8 a.m. to 2 p.m. PT each day. Public comments will be accepted at 11 a.m. PT on each business meeting day.

ADDRESSES: The January-February meeting will be held at the Bureau of Land Management Northern California District Office, 6640 Lockheed Drive, Redding, CA 96002. The June meeting will be held at the BLM Arcata Field Office, 1695 Heindon Road, Arcata, CA 95521. The August meeting will be held at the BLM Surprise Field Station, 602 Cressler Street, Cedarville, CA 96104. Virtual participation options will also be available for the business meetings. Meeting links and participation instructions will be provided to the public via news media, social media, the BLM California website blm.gov/get-involved/rac/California/northern-california-rac, and through personal contact 2 weeks prior to the meetings. Written comments pertaining to the meetings can be sent to the BLM Northern California District Office, at the address above, marked Attention: RAC meeting comments.

FOR FURTHER INFORMATION CONTACT: Public Affairs Officer Joseph J. Fontana, telephone: 530-260-0189, email: jfontana@blm.gov. Individuals in the United States who are deaf, deafblind, hard of hearing, or have a speech disability may dial 711 (TTY, TDD, or TeleBraille) to access telecommunications relay services. Individuals outside the United States should use the relay services offered within their country to make international calls to contact Mr. Fontana in the United States.

SUPPLEMENTARY INFORMATION: The 15-member RAC advises the Secretary of the Interior, through the BLM, on a variety of planning and management issues associated with BLM-managed public lands in northern California and far northwest Nevada. The January 31 field tour will focus on restoration and public access improvements on public lands in the Sacramento River Bend Outstanding Natural Area north of Red Bluff, California. For the February 1 business meeting, agenda topics include a status report on the Northwest California Integrated Resource Management Plan, a report on the fire and fuels program management program, an overview of the BLM law enforcement program in the district, and reports from the BLM state director and Northern California District field managers. The June 5 field tour to the Samoa Dunes area near Eureka, California, will focus on BLM efforts to restore coastal dune habitats and provide access for recreation. For the June 6 business meeting, agenda topics include a status report on the Northwest California Integrated Resource Management Plan, an overview of partnerships active in the Arcata Field Office, a status report on BLM land tenure actions, and reports from the BLM state director and Northern California District field office managers. The September 25 field tour will focus on BLM efforts to restore historically significant features at a historic ranch area that has come into public ownership. For the September 26 business meeting agenda topics include a potential review of the final Record of Decision for the Northwest California Integrated Resource Management Plan, if applicable; a report on wild horse and burro management in herd management areas within the Applegate Field Office jurisdiction; an update on sage grouse habitat management and improvement projects; and reports from the BLM state director and Northern California field office managers.

All meetings are open to the public. Each formal council meeting will have time allocated for public comments. Depending on the number of persons wishing to speak and the time available, the amount of time for oral comments may be limited. Written public comments may be sent to the BLM Northern California District Office at the address listed in the ADDRESSES section of this notice. All comments received will be provided to the RAC.

Public Disclosure of Comments: Before including your address, phone number, email address, or other personal identifying information in your comment, you should be aware that your entire comment—including your personal identifying information—may be made publicly available at any time. While you can ask us in your comment to withhold your personal identifying information from public review, we cannot guarantee that we will be able to do so.

Members of the public are welcome on field tours but must provide their own transportation and meals. Individuals who plan to attend and need special assistance, such as sign language interpretation and other reasonable accommodations, should contact the BLM (see FOR FURTHER INFORMATION CONTACT).

Detailed meeting minutes for the RAC meetings will be maintained in the Northern California District Office. Minutes will also be posted to the California RAC web page.

(Authority: 43 CFR 1784.4-2)

Erica St. Michel,
Deputy State Director, Communications.

[FR Doc. 2023-28714 Filed 12-27-23; 8:45 am]

BILLING CODE 4331-15-P